DEPARTMENT OF AGRICULTURE

Animal and Plant Health Inspection Service

[Docket No. 01-013-2]

Protection of Sunflowers from Red-Winged Blackbirds in North Dakota, South Dakota, and Minnesota

AGENCY: Animal and Plant Health Inspection Service, USDA.

ACTION: Notice of intent and initiation of scoping.

SUMMARY: We are advising the public that the Animal and Plant Health Inspection Service's Wildlife Services program intends to prepare an environmental impact statement for a project to protect sunflowers from red-winged blackbird damage. The environmental impact statement will analyze the potential environmental effects of reducing blackbird damage to ripening sunflowers in North Dakota, South Dakota, and Minnesota. We are also requesting comments from the public, including affected Federal, State, and local agencies, any affected Indian tribe, and any other interested persons concerning issues that should be addressed in the environmental impact statement. The information received in response to this notice, as well as the information we received in response to our March 2001 notice on this subject, will be considered during the development of the environmental impact statement that will be prepared in accordance with the National Environmental Policy Act.

DATES: We invite you to comment on this notice of intent. We will consider all comments that we receive by June 20, 2001.

ADDRESSES: Please send four copies of your comment (an original and three copies) to: Docket No. 01-013-2, Regulatory Analysis and Development, PPD, APHIS, Suite 3C03, 4700 River Road Unit 118, Riverdale, MD 20737-1238.

Please state that your comment refers to Docket No. 01-013-2.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Phil Mastrangelo, State Director, Wildlife Services, APHIS, USDA, 2110 Miriam Circle, Suite A, Bismarck, ND 58501-2502; phone (701) 250-4405.

SUPPLEMENTARY INFORMATION: Wildlife Services (WS) of the Animal and Plant Health Inspection Service (APHIS) provides technical and operational assistance to entities who request assistance in reducing damage, in this case to sunflower producers. WS loans damage abatement equipment (e.g., propane cannons, pyrotechnics), conducts training workshops, provides informational leaflets on damage management and sources of damage abatement tools, and, in the case of blackbird damage to sunflowers, conducts roost management programs to disperse blackbirds from sunflower production areas.

Approximately 80 percent of sunflower production in the United States occurs in North Dakota, South Dakota, and Minnesota. Sunflower production in these States has increased from 1 million kg in the early 1960's to about 1.5 billion kg, valued at $315 million, in 1999. However, increased production of sunflowers has been hampered by increasing blackbird populations, and resultant damage. Esophageal contents of red-winged blackbirds collected in late summer and fall reveal that 93 percent of the males and 86 percent of the females had eaten sunflower seeds, which comprised 69 percent and 57 percent of the male and female diets, respectively.

Damage surveys conducted in sunflower production areas in North Dakota, South Dakota, and Minnesota indicate that overall loss is generally 1 to 2 percent of the crop. If all producers received less than 2 percent damage, there would be little concern for damage caused by blackbirds. However, damage is not equally distributed, can be severe for some producers, and is fairly consistent from year-to-year within a locality. Research has been conducted throughout the northern Great Plains to estimate the amount of damage birds have caused to ripening sunflower crops. Sunflower damage assessments for North Dakota, South Dakota, and Minnesota showed an estimated loss of $5.1 million in 1979 and $7.9 million in 1980. More recent quantitative bird damage surveys were conducted from 1996 to 1998 in Stutsman and Pierce Counties in North Dakota and Brown and Clark Counties in South Dakota. Assuming damage in these four counties is representative of the damage in sunflower growing areas in North Dakota, South Dakota, and Minnesota, sunflower producers in these States lost about $8.26 million annually to blackbirds.

Sunflower growers and Government agencies have used both lethal and nonlethal techniques to reduce red-winged blackbird damage to ripening sunflowers. The goal of nonlethal methods is to decrease the availability or attractiveness of the crop to blackbirds or to disperse the birds so that damage is not concentrated in any given area. Examples of nonlethal methods include altering farming practices, using audio and visual frightening devices, growing bird-resistant sunflowers, increasing weed control in fields, and growing decoy crops. Additionally, research has shown that opening dense cattail stands, which are traditional roost sites for blackbirds, aids in dispersing blackbirds from nearby sunflower crops. To date, nonlethal blackbird damage management initiatives have been somewhat effective in reducing blackbird damage to unharvested sunflowers, but have not alleviated the problem for all sunflower growers.

Proposed Program

WS is proposing to implement a blackbird damage management program on private lands when requested in North Dakota, South Dakota, or Minnesota. The management approach would employ the use of nonlethal and lethal techniques to reduce red-winged blackbird damage to sunflowers. Sunflower damage and blackbird populations would be monitored to determine if the management techniques are reducing damage, if there is an effect on blackbird populations, or if additional methods or modification of implemented methods should occur.

Nonlethal Techniques

Under the proposed management program, WS would continue to employ the use of the nonlethal control methods described earlier in this document. WS would also continue to conduct roost management programs to disperse red-winged blackbirds away from sunflower production areas. Roost management activities involve the treatment of cattail stands larger than 10 acres with glyphosate herbicide. Effective management of cattail stands can disperse blackbirds from traditional roosting sites that are often in close proximity to sunflower crops.

Lethal Techniques

Under the proposed management program, WS would employ the use of 2 percent DRC-1339-treated brown rice at red-winged blackbird staging areas in the spring to reduce breeding populations and subsequent damage to ripening sunflowers in the fall. DRC-1339 baiting would occur on not more than 50 acres in harvested fields near red-winged blackbird staging areas in east-central South Dakota and target not more than 2 million red-winged blackbirds annually. The baiting areas would be determined based on the most current red-winged blackbird roost site distribution and the areas where red-winged blackbirds stage. Baiting areas and sites would be determined through field observations by trained personnel, and DRC-1339-treated bait would not be distributed until risks to nontarget species were evaluated.

Prior EPA-Authorized Use of DRC-1339

The avian toxicant DRC-1339 (3-Chloro-p-toluidine hydrochloride) has been used to reduce blackbird populations causing agricultural damage in Louisiana, North Dakota, South Dakota, and Texas under Section 24C of the Federal Insecticide, Fungicide, and Rodenticide Act. In February 1995, the Environmental Protection Agency (EPA) granted a Section 3 label for “Compound DRC-1339 Concentrate Staging Areas” for bird control in noncrop staging areas associated with red-winged blackbird roosts. The Section 24C label for “Compound DRC-1339 Concentrate ND and SD” is still in effect for North Dakota because this label allows a broader use pattern, including baiting within ripening sunflower fields during late summer.

Scoping Process

The initial step in the process of developing an environmental impact statement (EIS) is scoping. Scoping includes solicitation of public involvement in the form of either written or oral comments, and evaluation of these comments. This process is used for determining the scope of issues to be addressed. We are therefore asking for written comments that identify significant environmental issues that should be analyzed in the EIS. We invite comments from affected Federal, State, and local agencies, any affected Indian tribe, and any other interested persons, and from Federal and State agencies that have either jurisdiction by law or special expertise regarding any issue or environmental impact that should be discussed in the EIS.

Note: On March 22, 2001, we published a notice in the Federal Register (66 FR 16028-16031, Docket No. 01-013-1) soliciting public involvement in the development of issues necessary to complete an analysis of the environmental impacts of reducing red-winged blackbird damage to ripening sunflowers in North Dakota, South Dakota, and Minnesota. We solicited comments on that notice for 30 days ending on April 23, 2001, and received 163 comments by the close of the comment period and an additional 27 comments by April 30, 2001. We will consider all the comments that we received in response to our March 22, 2001, notice during the preparation of the EIS that is the subject of this notice. Therefore, if you submitted comments in response the March 2001 notice, you do not need to resubmit those comments in order for the information provided in them to be considered during the development of the EIS.

We are encouraging members of the public and interested agencies and organizations to assist in the planning of this program and the development of an EIS by answering the following questions:

• What issues or concerns about the proposed sunflower protection program should we analyze?

• What alternatives to the proposed action should we analyze?

• Do you have additional information (i.e., scientific data or studies) that we should consider in the analysis?

Alternatives

We will consider all reasonable and realistic action alternatives recommended in the comments we receive. The following alternatives have already been identified for comprehensive analysis in the EIS:

• No involvement by WS in sunflower protection (no Federal program);

• Non-lethal before lethal program;

• Continue the current WS blackbird damage management program;

• Integrated adaptive management with the use of DRC-1339 baiting to reduce damage caused by red-winged blackbirds (preferred action);

• Lethal only program; and

• Payment of compensation to affected growers.

Major Issues

The following are some of the major issues that will be discussed in the EIS:

• Cumulative effects of the proposed damage management program on red-winged blackbird populations;

• Safety concerns regarding the potential effects of the proposed damage management program on the public, domestic pets, and nontarget species, including threatened and endangered species;

• Efficacy of DRC-1339 spring baiting in reducing damage to unharvested sunflowers;

• Public concern about WS' use of chemicals; and

• DRC-1339 spring baiting effects on biodiversity.

Other alternatives and issues may also be included in the analysis and will be identified based on comments submitted by the public and other agencies and organizations.

Preparation of the EIS

Following completion of the scoping process, we will prepare a draft EIS for the program to protect sunflowers from blackbird damage. A notice announcing that the draft EIS is available for review will then be published in the Federal Register. The notice will also request comments concerning the draft EIS.

Done in Washington, DC, this 16th day of May 2001.
Craig A. Reed,
Administrator, Animal and Plant Health Inspection Service.

[FR Doc. 01-12695 Filed 5-18-01; 8:45 am]

BILLING CODE 3410-34-U